DEPARTMENT OF DEFENSE

Office of the Secretary

Reserve Forces Policy Board; Notice of Federal Advisory Committee Meeting

AGENCY: Under Secretary of Defense for Personnel and Readiness, Reserve Forces Policy Board, Department of Defense.

ACTION: Notice of Federal Advisory Committee meeting.

SUMMARY: The Department of Defense (DoD) is publishing this notice to announce that the following Federal Advisory Committee meeting of the Reserve Forces Policy Board (RFPB) will take place.

DATES: The RFPB will hold an open meeting to the public Wednesday, September 12, 2018 from 8:30 a.m. to 4:30 p.m.

ADDRESSES: The address for the Open Session of the meeting is the Army Navy Country Club, 1700 Army Navy Drive, Arlington, VA 22202.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website and the Federal Register.

Purpose of the Meeting: The purpose of the meeting is to obtain, review and evaluate information related to strategies, policies, and practices designed to improve and enhance the capabilities, efficiency, and effectiveness of the Reserve Components.

Agenda: The RFPB will hold an open meeting to the public Wednesday, September 12, 2018 from 8:30 a.m. to 4:30 p.m. The meeting will focus on discussions with the Acting Assistant Secretary of Defense Manpower and Reserve Affairs who will discuss the Secretary of Defense's goals, readiness objectives, and challenges for the “Operational Reserve” as part of the Total Force, and personnel initiatives pertaining to the Reserve Components. The Deputy Chief of Staff for Manpower, Personnel and Services, Headquarters U.S. Air Force; the Deputy Chief of Staff, G-1, Headquarters, Department of the Army; the Director, Military Personnel Plans and Policy (OPNAV N13), Chief of Naval Operations; the Director, Manpower Management Division, Manpower and Reserve Affairs, Headquarters, U.S. Marine Corps; and the Acting Director, Reserve and Military Personnel, Headquarters, U.S. Coast Guard who will discuss their Service's recruiting and retention issues, personnel readiness, and plans to adapt their personnel system to meet the future Total Force challenges. The Director of Manpower and Legislation and Systems, Personnel and Readiness will provide the progress on the Department of Defense's Duty Status Reform efforts. The Director, Defense POW/MIA Accounting Agency will discuss the Department of Defense's POW/MIA Accounting Agency's initiatives to achieve their goal of providing families and the nation with the fullest possible accounting of missing personnel from past conflicts. And the Board meeting will conclude with a briefing from the Chair of the RFPB's Subcommittee on the Subcommittee on Ensuring a Ready, Capable, Available and Sustainable Operational Reserve on the RFPB on the subcommittee's review and proposed recommendation to the Secretary of Defense concerning the DoD's “Operational Reserve” definition.

Meeting Accessibility: Pursuant to 5 U.S.C. 552b, as amended and 41 CFR 102-3.140 through 102-3.165, and subject to the availability of space, the meeting is open to the public from 8:30 a.m. to 4:30 p.m. Seating is based on a first-come, first-served basis. All members of the public who wish to attend the public meeting must contact Mr. Alex Sabol, the Designated Federal Officer, not later than 12:00 p.m. on Tuesday, September 11, 2018, as listed in the FOR FURTHER INFORMATION CONTACT.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's website.

Dated: August 22, 2018.
Shelly E. Finke,
Alternate OSD Federal Register, Liaison Officer, Department of Defense.

[FR Doc. 2018-18501 Filed 8-24-18; 8:45 am]

BILLING CODE 5001-06-P